DEPARTMENT OF COMMERCE

Office of the Secretary

RIN 0690-ZA03

Request for Information on Commercial Capabilities in Space Situational Awareness Data and Space Traffic Management Services

AGENCY: Office of Space Commerce, National Oceanic and Atmospheric Administration, U.S. Department of Commerce.

ACTION: Notice to extend public comment period.

SUMMARY: On April 11, 2019, the U.S. Department of Commerce (Department), via the Office of Space Commerce, published a notice seeking information on space situational awareness (SSA) data and the space traffic management (STM) services, opening a public comment period through May 13, 2019. This notice announces an extension of the public comment period until May 23, 2019.

DATES: Comments and information on SSA data and STM services must be received by 5:00 p.m. Eastern Standard Time, May 23, 2019.

ADDRESSES: The public may submit written comments on issues addressed in this Notice by either of the following methods:

• Electronic Submission: Submit all electronic public comments via the Federal e-Rulemaking Portal. Go to www.regulations.gov/#!docketDetail;D=DOC-2019-0001, click the “Comment Now!” icon, complete the required fields, and enter or attach your comments.

• Mail: Submit written comments to Patrick Sullivan, U.S. Department of Commerce, 1401 Constitution Avenue NW, Room 53027, Washington, DC 20230.

FOR FURTHER INFORMATION CONTACT: Patrick Sullivan, U.S. Department of Commerce, 1401 Constitution Avenue NW, Room 53027, Washington, DC 20230; psullivan@doc.gov; (202) 482-6167.

SUPPLEMENTARY INFORMATION: On April 11, 2019, the Department, via the Office of Space Commerce, published a notice in the Federal Register (84 FR 14645) seeking input from interested parties on: (1) Specific capabilities commercial entities might currently and in the future provide through an open architecture data repository to the public to enhance the space situational awareness (SSA) data and the space traffic management (STM) services the U.S. government currently provides; (2) SSA, STM, and orbital debris mitigation best practices; and (3) perspectives on the appropriate regulatory structures the Department should adopt to drive the development and responsible use of such SSA and STM enhancements in order to protect national interests and further encourage U.S. commercial space investment.

This notice announces an extension of the public comment period from May 13, 2019 to May 23, 2019. The comment period is being extended to allow the public additional time to file comments given the diverse types of information sought.

Dated: May 9, 2019.
Patrick Sullivan,
Deputy Director, Regulation and Policy, Office of Space Commerce, U.S. Department of Commerce.

[FR Doc. 2019-09896 Filed 5-13-19; 8:45 am]

BILLING CODE P